DEPARTMENT OF ENERGY

Biological and Environmental Research Advisory Committee

AGENCY: Department of Energy; Office of Science.

ACTION: Notice of open meeting.

SUMMARY: This notice announces a meeting of the Biological and Environmental Research Advisory Committee. Federal Advisory Committee Act (Pub. L. 92-463, 86 Stat. 770) requires that public notice of these meetings be announced in the Federal Register.

DATES: Tuesday, September 1, 2009, 9 a.m. to 5 p.m. and Wednesday, September 2, 2009, 9 a.m. to 12 p.m., E.D.T.

ADDRESSES: Gaithersburg Marriott Washingtonian Center, 9751 Washingtonian Blvd., Gaithersburg, MD 20878.

FOR FURTHER INFORMATION CONTACT: Dr. David Thomassen (301-903-9817; david.thomassen@science.doe.gov) Designated Federal Officer, Biological and Environmental Research Advisory Committee, U.S. Department of Energy, Office of Science, Office of Biological and Environmental Research, SC-23/Germantown Building, 1000 Independence Avenue, SW., Washington, DC 20585-1290. The most current information concerning this meeting can be found on the Web site: http://www.science.doe.gov/ober/berac/announce.html.

SUPPLEMENTARY INFORMATION: Purpose of the Meeting: To provide advice on a continuing basis to the Director, Office of Science of the Department of Energy, on the many complex scientific and technical issues that arise in the development and implementation of the Biological and Environmental Research Program.

Tentative Agenda

• Report from the Office of Science.

• Report from the Office of Biological and Environmental Research.

• Presentation of Workshop Reports.

• News from the Biological Systems Science and Climate and Environmental Sciences Divisions.

• Report on the Joint Genome Institute Strategic Planning.

• Discussion of BERAC Planning for Long Term Vision for the Office of Biological and Environmental Research.

• New Business.

• Public Comment.

Public Participation: The day and a half meeting is open to the public. If you would like to file a written statement with the Committee, you may do so either before or after the meeting. If you would like to make oral statements regarding any of the items on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 45 days at the BERAC Web site: http://www.science.doe.gov/ober/berac/Minutes.html.

Issued in Washington, DC on August 11, 2009.
Rachel M. Samuel,
Deputy Committee Management Officer.

[FR Doc. E9-19708 Filed 8-14-09; 8:45 am]

BILLING CODE 6450-01-P